DEPARTMENT OF TRANSPORTATION

Federal Aviation Administration

RTCA Special Committee 200/EUROCAE Working Group 60: Modular Avionics, Second Joint Plenary Meeting

AGENCY: Federal Aviation Administration (FAA), DOT.

ACTION: Notice of RTCA Special Committee 200/EUROCAE Working Group 60 meeting.

SUMMARY: The FAA is issuing this notice to advise the public of a meeting of RTCA Special Committee 200/EUROCAE Working Group 60: Modular Avionics.

DATES: The meeting will be held May 20-22, 2003 starting at 9 a.m.

ADDRESSES: The meeting will be held at Diehl Avionik Systeme GmbH, Alte NuBdorfer StraBe 13, D-88662 Uberlingen, Germany.

FOR FURTHER INFORMATION CONTACT: RTCA Secretariat, 1828 L Street, NW., Suite 805, Washington, DC 20036; telephone (202) 833-9339; fax (202) 833-9434; Web site http://www.rtca.org; (2) Enrico PIVETTA; telephone +49 7551 89 4403; fax +49 7551 89 6001; e-mail enrico.pivetta@diehl-avionik.de.

SUPPLEMENTARY INFORMATION: Pursuant to section 10(a)(2) of the Federal Advisory Committee Act (Pub. L. 92-463, 5 U.S.C., Appendix 2), notice is hereby given for a Special Committee 200/EUROCAE Working Group 60 meeting. The agenda will include:

• May 20:

• Opening Plenary Session (Welcome and Introductory Remarks, Review Agenda, Review/Approve previous Common Plenary Summary, Review Open Action Items)

• Briefing of status of other committees

• Report on Subgroup Activities since Joint Meeting Number 2

• Plenary review of Document Outline & Glossary

• Way ahead to deliverable Document/Draft planning

• Subgroup targets for this meeting

• May 21:

• Individual Subgroup meetings

• May 22:

• Report of Subgroup meetings

• Consolidate planning

• Closing Plenary Session (Review Action Items, Date and Place of Next Meeting, Adjourn)

Attendance is open to the interested public but limited to space availability. With the approval of the chairmen, members of the public may present oral statements at the meeting. Persons wishing to present statements or obtain information should contact the person listed in the FOR FURTHER INFORMATION CONTACT section. Members of the public may present a written statement to the committee at any time.

Issued in Washington, DC, on April 16, 2003.
Janice L. Peters,
FAA Special Assistant, RTCA Advisory Committee.

[FR Doc. 03-10574 Filed 4-29-03; 8:45 am]

BILLING CODE 4910-13-M